ENVIRONMENTAL PROTECTION AGENCY

40 CFR Part 52

[EPA-R05-OAR-2020-0699; FRL-10754-02-R5]

Air Plan Approval; Indiana; ArcelorMittal and NIPSCO Sulfur Dioxide Revisions

AGENCY: Environmental Protection Agency (EPA).

ACTION: Final rule.

SUMMARY: The Environmental Protection Agency (EPA) is approving, under the Clean Air Act (CAA), revisions to the sulfur dioxide (SO2) portion of the Indiana State Implementation Plan (SIP). The state of Indiana is requesting revisions to emission limits at the Northern Indiana Public Service Company Bailly Station (NIPSCO) facility reflecting permanently shut down units. Indiana is also requesting SIP revisions for two facilities formerly owned by ArcelorMittal USA LLC and currently owned by Cleveland-Cliffs LLC (the Indiana Harbor East and Indiana Harbor West facilities). The Indiana Harbor East facility is required to demonstrate continuous compliance with final SO2 emission limits as a daily (24-hour) average. These revisions will result in decreases in allowable SO2 emissions at all three facilities, maintaining SO2 attainment/unclassifiable designations for the 2010 1-hour SO2 national ambient air quality standards (NAAQS). EPA proposed to approve this action on June 26, 2023, and received no adverse comments.

DATES: This final rule is effective on October 30, 2023.

ADDRESSES: EPA has established a docket for this action under Docket ID No. EPA-R05-OAR-2020-0699. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Cecilia Magos, at (312) 886-7336 before visiting the Region 5 office.

FOR FURTHER INFORMATION CONTACT: Cecilia Magos, Attainment Planning and Maintenance Section, Air Programs Branch (AR-18J), Environmental Protection Agency, Region 5, 77 West Jackson Boulevard, Chicago, Illinois 60604, (312) 886-7336, magos.cecilia@epa.gov.

SUPPLEMENTARY INFORMATION: Throughout this document whenever “we,” “us,” or “our” is used, we mean EPA.

I. Background Information

On June 26, 2023, EPA proposed to approve the Indiana Department of Environmental Management (IDEM) site-specific SO2 SIP revisions to Indiana's sulfur dioxide rules contained in 326 Indiana Administrative Code (IAC) 7-4-14(2), 326 IAC 7-4.1-10 and 326 IAC 7-4.1-11. See 88 FR 41341. The revisions for the NIPSCO facility in Porter County and ArcelorMittal LLC (Indiana Harbor West) in Lake County, are administrative clean-up revisions removing limits that apply to permanently shut down units. The revisions for ArcelorMittal LLC (Indiana Harbor East) also located in Lake County, remove limits that apply to permanently shut down units and include a demonstration of continuous compliance with SO2 emission limits as a daily (24-hour) average SO2 pounds per hour (lbs/hr) emission limit. An explanation of the CAA requirements, a detailed analysis of the revisions, and EPA's reasons for proposing approval were provided in the notice of proposed rulemaking (88 FR 41341), and will not be restated here.

The public comment period for this proposed rule ended on July 26, 2023. During the comment period, EPA received one supportive comment that covered the improved environmental conditions and the potential health benefits from reduced exposure to SO2 emissions in an area. The comment received is included in the docket for this action. Because the comment is supportive and does not recommend a different action on the SIP submission from what EPA proposed, we are finalizing our action as proposed.

II. Final Action

EPA is approving revisions to Indiana's SO2 rules submitted on March 31, 2022. Specifically, EPA is approving Indiana's SO2 rules for NIPSCO (326 IAC 7-4-14(2)), ArcelorMittal USA LLC (Indiana Harbor West) (326 IAC 7-4.1-10), and ArcelorMittal USA LLC (Indiana Harbor East) (326 IAC 7-4.1-11), effective March 31, 2021. This will strengthen the Indiana SO2 SIP by lowering SO2 emission limits overall and update monitoring compliance requirements to the Indiana Harbor East facility.

III. Incorporation by Reference

In this rule, EPA is finalizing regulatory text that includes incorporation by reference. In accordance with requirements of 1 CFR 51.5, EPA is finalizing the incorporation by reference of the Indiana Regulations described in section II of this preamble and set forth in the amendments to 40 CFR part 52 below. EPA has made, and will continue to make, these documents generally available through www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

IDEM did not evaluate environmental justice considerations as part of its SIP submittal; the CAA and applicable implementing regulations neither prohibit nor require such an evaluation. EPA performed an environmental justice analysis, as is described in the section titled, “Environmental Justice Considerations” in the notice of proposed rulemaking. See 88 FR 41343. The analysis was done for the purpose of providing additional context and information about this rulemaking to the public, not as a basis of the action. Due to the nature of the action being taken here, this action is expected to have a neutral to positive impact on the air quality of the affected area. In addition, there is no information in the record upon which this decision is based inconsistent with the stated goal of E.O. 12898 of achieving environmental justice for people of color, low-income populations, and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by November 27, 2023. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur oxides.

Dated: September 19, 2023.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.770, amend the table in paragraph (c), under “Article 7. Sulfur Dioxide Rules”:

a. Under “Rule 4. Emission Limitations and Requirements by County”:

i. By revising the entry for “7-4-14”, and

ii. By adding a second entry for “7-4-14” immediately following the first entry.

b. Under “Rule 4.1. Lake County Sulfur Dioxide Emission Limitations” by revising the entries for “7-4.1-10” and “7-4.1-11”.

The revised and added entries read as follows:

§ 52.770 Identification of plan.

* * * * *

(c) * * *

EPA-Approved Indiana Regulations
Indiana citation | Subject | Indiana effective date | EPA approval date | Notes
* * * * * * *
Article 7. Sulfur Dioxide Rules
* * * * * * *
Rule 4. Emission Limitations and Requirements by County
* * * * * * *
7-4-14 | Porter County sulfur dioxide emission limitations | 10/23/1988 | 1/19/1989, 54 FR 2112 | Only Sec. 14. (1).
7-4-14 | Porter County sulfur dioxide emission limitations | 3/31/2021 | 9/28/2023, [Insert Federal Register Citation] | Except Sec. 14. (1).
* * * * * * *
Rule 4.1. Lake County Sulfur Dioxide Emission Limitations
* * * * * * *
7-4.1-10 | ArcelorMittal USA LLC (Indiana Harbor West) sulfur dioxide emission limitations | 3/31/2021 | 9/28/2023, [Insert Federal Register Citation]
7-4.1-11 | ArcelorMittal USA LLC (Indiana Harbor East) sulfur dioxide emission limitations | 3/31/2021 | 9/28/2023, [Insert Federal Register Citation]
* * * * * * *

* * * * *

[FR Doc. 2023-20743 Filed 9-27-23; 8:45 am]

BILLING CODE 6560-50-P